DEPARTMENT OF COMMERCE

National Oceanic and Atmospheric Administration

RIN 0648-XD751

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Advisory Subpanel (GAP) will hold an online webinar, which is open to the public.

DATES: The webinar will be held Tuesday, March 3, 2015, from 10 a.m. to 12 p.m. Pacific Time.

ADDRESSES: To attend the webinar, visit http://www.gotomeeting.com/online/webinar/join-webinar. Enter the webinar ID, which is 101-963-979, and your name and email address (required). Once you have joined the webinar, choose either your computer's audio or select “Use Telephone.” If you do not select “Use Telephone” GoToMeeting will automatically connect you to the audio using your computer's microphone and speakers (VoIP).

If you do not have a headset and speakers, or if there is excessive feedback, please use your telephone for the audio portion of the meeting by dialing this TOLL number +1 (702) 489-0004 (not a toll-free number); then enter the attendee phone audio access code 502-039-210; then enter your audio phone pin (shown after joining the webinar). System Requirements for PC-based attendees: Windows® 7, Vista, or XP; for Mac®-based attendees: Mac OS® X 10.5 or newer; and for mobile attendees: iPhone®, iPad®, Android™ phone or Android tablet (See the GoToMeeting Webinar Apps). You may send an email to Mr. Kris Kleinschmidt or contact him at (503) 820-2425 for technical assistance. A listening station will also be provided at the Pacific Council office.

Council address: Pacific Council, 7700 NE Ambassador Place, Suite 101, Portland, OR 97220-1384.

FOR FURTHER INFORMATION CONTACT: Brett Wiedoff, Staff Officer; telephone: (503) 820-2424.

SUPPLEMENTARY INFORMATION: The primary purpose of the webinar is to discuss and develop statements for the Pacific Council's March 2015 meeting in Vancouver, WA on two agenda items: (1) Recommendations for incidental halibut retention allowances in the sablefish fishery north of Pt. Chehalis, WA—this topic will only be discussed if the Area 2A Pacific halibut Total Allowable Catch is high enough to provide such opportunities; and (2) Ecosystem Plan Initiatives—the Pacific Council will prioritize a list of fishery ecosystem plan initiatives and provide direction for additional consideration of the highest priority issue(s).

Other pertinent items that are on the Pacific Council's agenda for the March meeting may be addressed if time allows. Actions will be restricted to those issues specifically listed in this notice and any issues arising after publication of this notice that require emergency action under section 305(c) of the Magnuson-Stevens Fishery Conservation and Management Act, provided the public has been notified of the GAP's intent to take final action to address the emergency. Public comment may be accommodated if time allows, at the discretion of the GAP Chair.

Special Accommodations

The listening station at the Pacific Council office is physically accessible to people with disabilities. Requests for sign language interpretation or other auxiliary aids should be directed to Mr. Kris Kleinschmidt, at (503) 820-2280, at least 5 days prior to the meeting date.

Dated: February 10, 2015.
Tracey L. Thompson,
Acting Deputy Director, Office of Sustainable Fisheries, National Marine Fisheries Service.

[FR Doc. 2015-03040 Filed 2-12-15; 8:45 am]

BILLING CODE 3510-22-P